OFFICE OF PERSONNEL MANAGEMENT

[OMB Control No. 3206-0219]

Request for Comments on a Reinstatement With Change of an Existing Information Collection

AGENCY: U.S. Office of Personnel Management.

ACTION: Notice.

SUMMARY: In accordance with the Paperwork Reduction Act of 1995 (Pub. L. 104-13, May 22, 1995), this notice announces that the U.S. Office of Personnel Management (OPM) intends to submit to the Office of Management and Budget (OMB) a request for review of an existing information collection. This information collection occurs electronically via the USAJOBS Resume Builder (online application) or completion and submission via regular mail, e-mail, fax, or in person of OF 612 Optional Form Application for Federal Employment or a resume. The USAJOBS Resume Builder and the OF 612 both reflect the minimal critical elements collected across the Federal government to assess an applicant's qualifications for Federal jobs under the authority of sections 1104, 1302, 3301, 3304, 3320, 3361 3393, and 3394 of Title 5 United States Code.

This notice also announces that the Office of Personnel Management (OPM) intends to continue using the Optional Form Application for Federal Employment (OF 612) and will not be requesting cancellation from the Office of Management and Budget at this time.

The information collection was previously published in the Federal Register on February 25, 2009, at 73 FR 8589 allowing for a 60-day public comment period. We have received two comments on the 60-day Notice requesting that the OF-612 be continued.

The purpose of this notice is to allow an additional 30 days for public comments. Comments are particularly invited on: Whether this information is necessary for the proper performance of functions of OPM, and whether it will have practical utility; whether our estimate of the public burden of this collection of information is accurate and based on valid assumptions and methodology; and ways in which we can minimize the burden of the collection of information on those who are to respond, through the use of appropriate technological collection techniques or other forms of information technology.

We estimate 50,125,000 applications will be completed annually using the OF 612 and the USAJOBS Resume Builder. Each takes approximately 40 minutes to read and complete, depending on the amount of information the applicant wishes to include. The annual estimated burden is 33,416,667 hours.

DATES: Comments on this proposal should be received within 30 calendar days from the date of this publication.

ADDRESSES: Send or deliver comments to: OPM Desk Officer, Office of Information and Regulatory Affairs, Office of Management and Budget, New Executive Office Building, 725 17th Street, NW., Room 10236, Washington, DC 20503.

Please provide your mailing address or Fax number with your request.

U.S. Office of Personnel Management.
John Berry,
Director.

[FR Doc. E9-20093 Filed 8-20-09; 8:45 am]

BILLING CODE 6325-38-P